BROADCASTING BOARD OF GOVERNORS

22 CFR Part 510

Service of Process

AGENCY: Broadcasting Board of Governors

ACTION: Rule.

SUMMARY: The Broadcasting Board of Governors (BBG) is publishing a change to a regulation governing contact information of the Office of General Counsel of BBG for purposes of service of process. This rule will revise the Office of General Counsels address cited in the current version of our regulations.

DATES: Effective February 18, 2009.

FOR FURTHER INFORMATION CONTACT: Kataryna L. Baldwin, Assistant General Counsel, Broadcasting Board of Governors, 330 Independence Avenue, SW., Washington, DC 20237, phone: (202) 203-4550 or fax at (202) 203-4585.

SUPPLEMENTARY INFORMATION: The current version of 22 CFR 510.1 lists an incorrect address for the Office of General Counsel of BBG. The correct address is “Office of the General Counsel, Broadcasting Board of Governors, 330 Independence Avenue, SW., Cohen Building, Washington, DC 20237.”

List of Subjects in 22 CFR Part 510

Administrative practice and procedure, Courts.

For the reasons stated in the preamble, the Broadcasting Board of Governors amends 22 CFR Chapter V, to read as follows:

PART 510—SERVICE OF PROCESS

1. The authority citation for part 510 continues to read as follows:

Authority: 5 U.S.C. 552(a)(1)(A).

2. In § 510.1 revise paragraph (c) to read as follows:

§ 510.1 Service of process.

* * * * *

(c) Process shall be delivered to:

Mailing address: Office of the General Counsel, Broadcasting Board of Governors, 330 Independence Ave., SW., Cohen Building, Washington, DC 20237.

Location: Office of the General Counsel, Broadcasting Board of Governors, 330 Independence Ave., SW., Cohen Building, Room 3349, Washington, DC 20237.

Dated: February 4, 2009.
Marie E. Lennon,
Chief of Staff, International Broadcasting Bureau (IBB).

[FR Doc. E9-3320 Filed 2-17-09; 8:45 am]

BILLING CODE 8610-01-P